FEDERAL MINE SAFETY AND HEALTH REVIEW COMMISSION

Sunshine Act Meeting

April 5, 2013.

TIME AND DATE: 10:00 a.m., Thursday, April 25, 2013.

PLACE: The Richard V. Backley Hearing Room, Room 511N, 1331 Pennsylvania Avenue NW., Washington, DC 20004 (entry from F Street entrance).

STATUS: Open.

MATTERS TO BE CONSIDERED: The Commission will consider and act upon the following in open session:Mach Mining, LLC v.Secretary of Labor,Docket No. LAKE 2009-324.(Issues include whether the Administrative Law Judge erred in concluding that the partial blocking of an escapeway did not constitute an “unwarrantable failure to comply.”)

Any person attending this meeting who requires special accessibility features and/or auxiliary aids, such as sign language interpreters, must inform the Commission in advance of those needs. Subject to 29 CFR 2706.150(a)(3) and § 2706.160(d).

CONTACT PERSON FOR MORE INFO: Jean Ellen (202) 434-9950/(202) 708-9300 for TDD Relay/1-800-877-8339 for toll free.

Emogene Johnson,
Administrative Assistant.

[FR Doc. 2013-08449 Filed 4-8-13; 11:15 am]

BILLING CODE 6735-01-P